DEPARTMENT OF EDUCATION

National Board for Education Sciences; Meeting

AGENCY: National Board for Education Sciences; ED.

ACTION: Notice of meeting.

SUMMARY: This notice sets forth the schedule and proposed agenda of a forthcoming meeting of the National Board for Education Sciences. Notice of this meeting is required under section 10(a)(2) of the Federal Advisory Committee Act. This document is intended to notify the general public of their opportunity to attend the meeting. Individuals who will need accommodations for a disability (i.e., interpreting services, assistive listening devices, materials in alternative format) should notify Sonia Chessen at (202) 219-2195 by January 13, 2006. We will attempt to meet requests after this date, but cannot guarantee availability of the requested accommodation. The meeting site is accessible to individuals with disabilities.

DATES: January 23 and 24, 2006.

Time: January 23, 2 p.m. to 5 p.m.; January 24, 9 a.m. to 2 p.m.

Location: The Washington Court Hotel, 525 New Jersey Ave., NW., Washington, DC, 20001.

FOR FURTHER INFORMATION CONTACT: Sonia Chessen, Executive Director, National Board for Education Sciences, Washington, DC 20208. Tel.: (202) 219-2195; fax: (202) 219-1466; e-mail: Sonia.Chessen@ed.gov.

SUPPLEMENTARY INFORMATION: The National Board for Education Sciences is authorized by Section 116 of the Education Sciences Reform Act of 2002. The Board advises the Director of the Institute of Education Sciences (IES) on the establishment of activities to be supported by the Institute, on the funding of applications for grants, contracts, and cooperative agreements for research after the completion of peer review, and reviews and evaluates the work of the Institute. On January 23, the Board will meet from 2 to 5 p.m. to hear an update on the work of the Institute of Education Sciences (IES) and a presentation of IES Policies and Procedures for the Peer Review of Grant Applications and Reports. On January 24, at 9 a.m., the Board will review the activities of the previous day and the present day's agenda. Starting at 9:15 a.m., the Board will discuss and take action on the Peer Review Policies and Procedures. From 9:45 to 10:30 a.m., the Board will hear from Michael Casserly on Research Evidence Needed by Practitioners and Policy Makers. At 10:45 a.m., the Board will hear from Drs. Arden Bement and Duane Alexander on the research agendas of the National Science Foundation and National Institutes of Health as they relate to education, and at 12:30 p.m., the Board will consider the implications of the day's presentations. At 1:15 p.m., the Board will consider its priorities and activities for 2006. Adjournment is scheduled for 2 p.m. The next meeting of the Board is scheduled for May 8 and 9, 2006.

Records will be kept of all Board proceedings and will be available for public inspection at the office of the National Board for Education Sciences, 555 New Jersey Ave., NW., Washington, DC 20208.

Dated: January 3, 2006.
Grover J. Whitehurst,
Director, Institute of Education Sciences.

[FR Doc. 06-166 Filed 1-6-06; 8:45 am]

BILLING CODE 4000-01-M